DEPARTMENT OF DEFENSE

Department of the Army; Corps of Engineers

Notice of Intent To Prepare a Supplemental Environmental Impact Statement for the Raritan Bay and Sandy Hook Bay, New Jersey Feasibility Report for Hurricane and Storm Damage Reduction Union Beach, New Jersey Final Feasibility Report

AGENCY: Department of the Army, U.S. Army Corps of Engineers, DoD.

ACTION: Notice of intent.

SUMMARY: The U.S. Army Corps of Engineers, New York District (District), is preparing a Supplemental Environmental Impact Statement (SEIS) to ascertain compliance with applicable Federal and State environmental laws for the authorized Raritan Bay and Sandy Hook Bay, New Jersey Feasibility Report for Hurricane and Storm Damage Reduction Union Beach, New Jersey Final Feasibility Report. The study area occupies an approximate 1.8 square mile area of land along the coast of Raritan Bay in the Borough of Union Beach, Monmouth County, New Jersey. The project was authorized for construction in the Water Resources Development Act of 2007 (Pub. L. 110-114) on November 8, 2007 but has yet to be constructed. An EIS for the authorized project was finalized in September 2003. This SEIS will identify any changes in the potential social, economic, cultural, and environmental affects through the implementation of the authorized plan since the EIS was published.

ADDRESSES: U.S. Army Corps of Engineers, New York District, Planning Division, Environmental Analysis Branch, 26 Federal Plaza, Room 2151, New York, NY 10278-0090.

FOR FURTHER INFORMATION CONTACT: Matthew Voisine, Project Biologist, matthew.voisine@usace.army.mil or 917-790-8718.

SUPPLEMENTARY INFORMATION:

1. The area is located in low elevation regions with numerous small creeks providing drainage. Low-lying residential and commercial structures in the area experience flooding caused by coastal storm inundation. This problem has progressively worsened in recent years due to loss of protective beaches and increased urbanization in the area with structures susceptible to flooding from rainfall and coastal storm surges, erosion and wave attack, combined with restrictions to channel flow in the tidal creeks. This area was devastated by Hurricane Sandy in October 2012. A NJDEP Community Affairs Report described 1,096 houses and 84 rentals with minor damage, 136 houses and 107 rentals with major damage, and 194 houses and 88 rentals with severe damage in Union Beach as a result of Hurricane Sandy.

2. The authorized plan recommends the implementation of a storm damage reduction project consisting of a combination of levee, floodwalls, tide gates, pump stations, a dune, and a beach berm with terminal groins. The project would also construct wetland habitat to mitigate for the loss of wetlands due to the implementation of the recommended plan.

3. The SEIS is will evaluate any changes in the project that may be necessary due to changes in regulations or existing conditions, including natural resources and the affects of hurricane Sandy. In one such proposed change the original authorized plans included the use of I-walls, which will need to be replaced per USACE Engineering Technical Letter (ETL) 1110-2-575, Engineering Design Evaluation of I-walls. The replacement for I-walls may have a larger footprint, potentially impacting more resources.

4. It is anticipated that a Draft SEIS is will be made available for public review in May 2014. Anyone with comments as to the scope of the SEIS or information that should be included in such assessment should provide this in writing to Mr. Voisine (see ADDRESSES).

5. Individuals interested in obtaining a copy of the Draft SEIS for review should contact Matthew Voisine (see ADDRESSES).

6. All federal agencies interested in participating as a Cooperating Agency are requested to submit a letter of intent to COL Paul E. Owen, District Engineer, U.S. Army Corps of Engineers, 26 Federal Plaza, Room 2109, New York, NY 10278-0090.

Dated: November 21, 2013.
Frank Santomauro,
Chief, Planning Division.

[FR Doc. 2014-01443 Filed 1-23-14; 8:45 am]

BILLING CODE 3720-58-P